DEPARTMENT OF HOMELAND SECURITY

Federal Emergency Management Agency

[Docket ID: FEMA-2020-0040; OMB No. 1660-0150]

Agency Information Collection Activities: Submission for OMB Review; Comment Request; Rated Orders, Adjustments, Exceptions, or Appeals Under the Emergency Management Priorities and Allocations System (EMPAS)

AGENCY: Federal Emergency Management Agency, DHS.

ACTION: 30-Day notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before April 12, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, email address FEMA-Information-Collections-Management@fema.dhs.gov or Marc Geier, Office of Policy and Program Analysis, Federal Emergency Management Agency, 500 C Street SW, Washington, DC 20472, 202.924.0196 or FEMA-DPA@fema.dhs.gov.

SUPPLEMENTARY INFORMATION: This proposed information collection previously published in the Federal Register on January 4, 2021 at 86 FR 113 with a 60-day public comment period. No comments were received. The purpose of this notice is to notify the public that FEMA will submit the information collection abstracted below to the Office of Management and Budget for review and clearance.

Collection of Information

Title: Rated Orders, Adjustments, Exceptions, or Appeals Under the Emergency Management Priorities and Allocations System (EMPAS).

Type of Information Collection: Revision of a currently approved information collection.

OMB Number: 1660-0150.

FEMA Forms: No forms.

Abstract: To help ensure the timely delivery of goods and services in support of approved emergency management programs, section 333.13 of the Emergency Management Priorities and Allocations System regulation requires suppliers to accept or reject priority rated orders for these goods and services within established time periods (10 working days for a “DX” rated order and 15 working days for a “DO” rated order). Rated orders may be placed directly by the Federal Government on a contractor or supplier, or they may “flow down” from a contractor to subsequent subcontractors or suppliers. Additionally, FEMA may facilitate sales to third parties. Section 333.13 also requires that certain emergency preparedness rated orders must be accepted or rejected within shorter time periods as specified in section 333.12(b). Section 333.13(d)(3) of the EMPAS regulation requires that, if after acceptance of a rated order the supplier discovers that shipment or performance against the order will be delayed, the supplier must notify the customer immediately in written electronic format, giving the reasons for the delay and advising the customer of a new shipment or performance date. This collection of information involves order communications between a Federal Government prime contractor and its subcontractors, unless FEMA is facilitating a sale to a third party. In those situations, FEMA would collect information on the customer as part of the sale facilitation.

Finally, under section 333.70 each request for adjustment or exception must be in writing and contain a complete statement of all the facts and circumstances related to 44 CFR part 333 or official action from which adjustment is sought and a full and precise statement of the reasons why relief should be provided. Under section 333.71, any person who has had a request for adjustment or exception denied by FEMA under section 333.70 may appeal to the Administrator. Each appeal must be in writing and contain a complete statement of all the facts and circumstances related to the action appealed from a full and precise statement of the reasons the decision should be modified or reversed.

Affected Public: For Profit Business; Private Non-Profit; State, local or Tribal government.

Estimated Number of Respondents: 26.

Estimated Number of Responses: 26.

Estimated Total Annual Burden Hours: 8.5.

Estimated Total Annual Respondent Cost: $533.

Estimated Respondents' Operation and Maintenance Costs: None.

Estimated Respondents' Capital and Start-Up Costs: None.

Estimated Total Annual Cost to the Federal Government: $188.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Sr. Manager, Records Management Branch, Office of the Chief Administrative Officer, Mission Support, Federal Emergency Management Agency, Department of Homeland Security.

[FR Doc. 2021-05206 Filed 3-11-21; 8:45 am]

BILLING CODE 9111-19-P